DEPARTMENT OF COMMERCE

National Oceanic and Atmospheric Administration

[I.D. 082906F]

Caribbean Fishery Management Council; Public Meeting

AGENCY: National Marine Fisheries Service (NMFS), National Oceanic and Atmospheric Administration (NOAA), Commerce.

ACTION: Notice of a working group meeting

SUMMARY: The Caribbean Fishery Management Council's St. Croix exclusive economic zone (EEZ) Working Group will hold a meeting.

DATES: The St. Croix EEZ Working Group meeting will be held on October 10, 2006, from 6 p.m. to 10 p.m., approximately.

ADDRESSES: The meeting will be held at the Caravelle Hotel, 44A Queen Cross St., Christiansted, St. Croix, USVI 00820

FOR FURTHER INFORMATION CONTACT: Caribbean Fishery Management Council, 268 Munoz Rivera Avenue, Suite 1108, San Juan, Puerto Rico 00918, telephone: (787) 766-5926.

SUPPLEMENTARY INFORMATION: The St. Croix EEZ Working Group will meet to discuss the items contained in the following agenda:

1. Adoption of Agenda

2. Sustainable Fisheries Act (SFA) Current Regulations EEZ off St. Croix—Graciela Garcia-Moliner

3. USVI Current Fishery Regulations—William Tobias

4. Buck Island Reef National Monument Presentation—Joel Tutein

5. Other Business

Special Accommodations

The meeting is physically accessible to people with disabilities. For more information or request for sign language interpretation and/other auxiliary aids, please contact Mr. Miguel A. Rolon, Executive Director, Caribbean Fishery Management Council, 268 Munoz Rivera Avenue, Suite 1108, San Juan, Puerto Rico 00918, telephone: (787) 766-5926, at least 5 days prior to the meeting date.

Dated: August 30, 2006.
Tracey L. Thompson,
Acting Director, Office of Sustainable Fisheries, National Marine Fisheries Service.

[FR Doc. E6-14614 Filed 9-01-06; 8:45 am]

BILLING CODE 3510-22-S